Memorandum of July 19, 2024

Delegation of Functions and Authorities Under the Protecting American Intellectual Property Act of 2022

Memorandum for the Heads of Executive Departments and Agencies

By the authority vested in me as President by the Constitution and the laws of the United States of America, including section 301 of title 3, United States Code, I hereby order as follows:

Section 1. (a) I hereby delegate to the Secretary of State, with input from the Director of National Intelligence, the Attorney General, the Secretary of Commerce, and the heads of other relevant executive departments and agencies (agencies), as appropriate, the functions and authorities vested in the President by section 2(a) of the Protecting American Intellectual Property Act of 2022 (Public Law 117-336; 50 U.S.C. 1709) (the “Act”). To support the Secretary of State's preparation of the report required under section 2(a) of the Act, the Director of National Intelligence, the Attorney General, the Secretary of Commerce, and, as appropriate, the heads of other relevant agencies, shall provide pertinent information to the Secretary of State at least 90 days before the deadline for submission of the annual report to the appropriate congressional committees.

(b) I hereby delegate to the Secretary of State, in consultation with the heads of other relevant agencies, as appropriate, the authority to select the types of sanctions to be imposed under section 2(b)(1) of the Act. Once applicable sanctions are selected pursuant to section 2(b)(1) of the Act, I hereby delegate to the heads of other relevant agencies the authority to implement such sanctions, commensurate with their respective areas of responsibility.

(c) I hereby delegate to the Secretary of the Treasury the functions and authorities vested in the President by section 2(b)(2)(A) and section 2(d) of the Act.

(d) I hereby delegate to the Secretary of State the functions and authorities vested in the President by section 2(c) of the Act.

Sec. 2. The delegations in this memorandum shall apply to any provisions of any future public laws that are the same or substantially the same as the provisions referenced in this memorandum. Any reference in this memorandum to the Act shall be deemed to be a reference to such Act as amended from time to time.

Sec. 3. The Secretary of State is authorized and directed to publish this memorandum in the Federal Register.

THE WHITE HOUSE,

Washington, July 19, 2024

[FR Doc. 2024-17569

Filed 8-5-24; 11:15 am]

Billing code 4710-10-P